DEPARTMENT OF LABOR

Employment and Training Administration

[TA-W-55,038]

Duracell GBMG, Lexington, NC; Notice of Termination of Investigation

Pursuant to section 221 of the Trade Act of 1974, as amended, an investigation was initiated on June 7, 2004, in response to a petition filed by the company on behalf of workers at Duracell GBMG, Lexington, North Carolina.

The petitioner has requested that the petition be withdrawn. Consequently, further investigation in this case would serve no purpose, and the investigation has been terminated.

Signed at Washington, DC, this 8th day of July, 2004.
Linda G. Poole,
Certifying Officer, Division of Trade Adjustment Assistance.

[FR Doc. 04-16422 Filed 7-19-04; 8:45 am]

BILLING CODE 4510-30-P